FEDERAL COMMUNICATIONS COMMISSION

[IB Docket No. 16-185; DA 20-1474; FRS 17332]

Third Meeting of the World Radiocommunication Conference Advisory Committee

AGENCY: Federal Communications Commission.

ACTION: Notice.

SUMMARY: In accordance with the Federal Advisory Committee Act, this notice advises interested persons that the third meeting of the World Radiocommunication Conference Advisory Committee (WAC) will be held on February 23, 2021. Due to exceptional circumstances, the Advisory Committee meeting will be convened as a virtual meeting with remote participation only. This third meeting will consider status reports and recommendations from its Informal Working Groups (IWG) concerning preparation for the 2023 World Radiocommunication Conference (WRC-23).

DATES: February 23, 2021; 11:00 a.m. EST.

ADDRESSES: www.fcc.gov/live.

FOR FURTHER INFORMATION CONTACT: Dante Ibarra, Designated Federal Official, World Radiocommunication Conference Advisory Committee, FCC International Bureau, Global Strategy and Negotiation Division, at Dante.Ibarra@fcc.gov, (202)-418-0610 or WRC-23@fcc.gov.

SUPPLEMENTARY INFORMATION: The FCC established the Advisory Committee to provide advice, technical support and recommendations relating to the preparation of United States proposals and positions for the 2023 World Radiocommunication Conference (WRC-23).

In accordance with the Federal Advisory Committee Act, Public Law 92-463, as amended, this notice advises interested persons of the third meeting of the Advisory Committee. Additional information regarding the Advisory Committee is available on the Advisory Committee's website, www.fcc.gov/wrc-23. The virtual meeting is open to the public. The meeting will be broadcast live with open captioning over the internet from the FCC Live web page at www.fcc.gov/live. There will be audience participation available; send live questions to livequestions@fcc.gov only during this meeting.

The proposed agenda for the third meeting is as follows:

Agenda

Third Meeting of the World Radiocommunication Conference Advisory Committee

Federal Communications Commission

February 23, 2021; 11:00 a.m. EST

1. Opening Remarks

2. Approval of Agenda

3. Approval of the Minutes of the First Meeting

4. IWG reports and Documents Relating to Preliminary Views

5. Future Meetings

6. Other Business

Federal Communications Commission.
Troy Tanner,
Deputy Chief, International Bureau.

[FR Doc. 2020-28077 Filed 12-18-20; 8:45 am]

BILLING CODE 6712-01-P